DEPARTMENT OF ENERGY

Federal Energy Regulatory Commission

[Project No. 2211-004]

Duke Energy Indiana, Inc.; Indiana; Notice of Availability of Environmental Assessment

May 21, 2010.

In accordance with the National Environmental Policy Act of 1969 and the Federal Energy Regulatory Commission's (Commission) regulations, 18 CFR part 380 (Order No. 486, 52 FR 47897), the Office of Energy Projects has reviewed the application for a new license for the Markland Hydroelectric Project, located at the U.S. Army Corps of Engineers' (Corps) existing Markland Locks and Dam on the Ohio River in Switzerland County, Indiana, and has prepared an Environmental Assessment (EA) for the project. Parts of the project occupy 6.21 acres of federal land administered by the Corps; Duke Energy Indiana, Inc. proposes changing the project boundary to include a total of 10.2 acres of federal land to accommodate new and existing project facilities.

The EA contains the staff's analysis of the potential environmental impacts of continued operation and maintenance of the project and concludes that relicensing the project, with appropriate environmental protective measures, would not constitute a major federal action that would significantly affect the quality of the human environment.

A copy of the EA is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659.

You may also register online at http://www.ferc.gov/docs-filing/esubscription.asp to be notified via e-mail of new filings and issuances related to this or other pending projects. For assistance, contact FERC Online Support.

Any comments should be filed within 30 days from the date of this notice. Comments may be filed electronically via the Internet. See 18 CFR 385.2001(a)(1)(iii) and the instructions on the Commission's Web site (http://www.ferc.gov/docs-filing/ferconline.asp) under the “eFiling” link. For a simpler method of submitting text-only comments, click on “Quick Comment.” For assistance, please contact FERC Online Support at FERCOnlineSupport@ferc.gov; call toll-free at (866) 208-3676; or, for TTY, contact (202) 502-8659. Although the Commission strongly encourages electronic filing, documents may also be paper-filed. To paper-file, mail an original and eight copies to: Kimberly D. Bose, Secretary, Federal Energy Regulatory Commission, 888 First Street, NE., Washington, DC 20426. Please affix Project No. 2211-004 to all comments.

For further information, contact Dianne Rodman at (202) 502-6077.

Kimberly D. Bose,
Secretary.

[FR Doc. 2010-12850 Filed 5-27-10; 8:45 am]

BILLING CODE 6717-01-P